DEPARTMENT OF AGRICULTURE

Farm Service Agency

Information Collection Request; Inventory Property Management

AGENCY: Farm Service Agency, USDA.

ACTION: Notice; request for comments.

SUMMARY: In accordance with the Paperwork Reduction Act of 1995, the Farm Service Agency (FSA) is requesting comments from all interested individuals and organizations on an extension with a revision of a currently approved information collection that supports Inventory Property Management. The collected information is used to evaluate applicant requests to purchase inventory property, determine eligibility to lease or purchase inventory property, and ensure the payment of the lease amount or purchase amount associated with the acquisition of inventory property. Revisions to the information collection includes an increase in the total amount of burden hours expected related to inventory property requests.

DATES: We will consider comments that we receive by January 3, 2017.

ADDRESSES: We invite you to submit comments on this notice. In your comments, include date, volume, and page number, the OMB control number, and the title of the information collection of this issue of the Federal Register. You may submit comments by any of the following methods:

• Federal eRulemaking Portal: Go to http://regulations.gov. Follow the online instructions for submitting comments.

• Mail: J. Lee Nault, Loan Specialist, USDA/FSA/FLP, STOP 0523, 1400 Independence Avenue SW., Washington, DC 20250-0503.

You may also send comments to the Desk Officer for Agriculture, Office of Information and Regulatory Affairs, Office of Management and Budget, Washington, DC 20503. Copies of the information collection may be requested by contacting J. Lee Nault at the above address.

FOR FURTHER INFORMATION CONTACT: J. Lee Nault, (202) 720-6834.

SUPPLEMENTARY INFORMATION: Title: (7 CFR part 767) Farm Loan Programs—Inventory Property Management, OMB Number: 0560-0234, Expiration Date: 03/31/2017, Type of Request: Extension with a revision.

Abstract: FSA's Farm Loan Programs provide supervised credit in the form of loans to family farmers to purchase real estate and equipment and finance agricultural production. Inventory Property Management, as specified in 7 CFR part 767, provides the requirements for the management, lease, and sale of security property acquired by FSA. FSA may take title to real estate as part of dealing with a problem loan either by entering a winning bid in an attempt to protect its interest at a foreclosure sale, or by accepting a deed of conveyance in lieu of foreclosure. Information collections established in the regulation are necessary for FSA to determine an applicant's eligibility to lease or purchase inventory property and to ensure the applicant's ability to make payment on the lease or purchase amount.

The number of respondents and burden hours increase in the request. The increase is based on an approximate 13% increase in the number of inventory properties being held by FSA since the previous approval request. No additional forms, response actions, or time increases are added to the request.

The formula used to calculate the total burden hour is estimated average time per responses hours times total annual responses.

Estimate of Average Time to respond: 44 minutes per response. The average travel time, which is included in the total annual burden, is estimated to be 1 hour per respondent.

Respondents: Individuals or households, businesses or other for profit farms.

Estimated Annual Number of Respondents: 351.

Estimated Number of Responses per Respondent: 1.03.

Total Annual Responses: 363.

Estimated Average Time per Response: 1.69.

Estimated Total Annual Burden Hours: 616.

We are requesting comments on all aspects of this information collection to help us to:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Val Dolcini,
Administrator, Farm Service Agency.

[FR Doc. 2016-26660 Filed 11-3-16; 8:45 am]

BILLING CODE P